DEPARTMENT OF AGRICULTURE

Animal and Plant Health Inspection Service

[Docket No. APHIS-2013-0046]

Oral Rabies Vaccine Trial; Availability of a Supplement to an Environmental Assessment and Finding of No Significant Impact

AGENCY: Animal and Plant Health Inspection Service, USDA.

ACTION: Notice.

SUMMARY: We are advising the public that the Animal and Plant Health Inspection Service has prepared a supplement to an environmental assessment and finding of no significant impact relative to an oral rabies vaccination field trial in New Hampshire, New York, Ohio, Vermont, and West Virginia. Based on its finding of no significant impact, the Animal and Plant Health Inspection Service has determined that an environmental impact statement need not be prepared.

FOR FURTHER INFORMATION CONTACT: Mr. Richard Chipman, Rabies Program Coordinator, Wildlife Services, APHIS, 59 Chennell Drive, Suite 7, Concord, NH 03301; (603) 223-9623. To obtain copies of the supplement to the environmental assessment or finding of no significant impact, contact Ms. Beth Kabert, Environmental Coordinator, Wildlife Services, 140-C Locust Grove Road, Pittstown, NJ 08867; (908) 735-5654, fax (908) 735-0821, email: beth.e.kabert@aphis.usda.gov.

SUPPLEMENTARY INFORMATION:

Background

The Wildlife Services (WS) program of the Animal and Plant Health Inspection Service (APHIS) cooperates with Federal agencies, State and local governments, and private individuals to research and implement the best methods of managing conflicts between wildlife and human health and safety, agriculture, property, and natural resources. Wildlife-borne diseases that can affect domestic animals and humans are among the types of conflicts that APHIS-WS addresses. Wildlife is the dominant reservoir of rabies in the United States.

On August 16, 2012, APHIS-WS published in the Federal Register (77 FR 49409-49410, Docket No. APHIS-2012-0052) a notice ¹ announcing the availability of an environmental assessment (EA) and finding of no significant impact (FONSI) pertaining to the potential environmental impacts associated with the implementation of a field trial to test the safety and efficacy of an experimental oral rabies vaccine for wildlife in New Hampshire, New York, Ohio, Vermont, and West Virginia. Based on the FONSI, we determined that an environmental impact statement need not be prepared.

¹ To view the notice, the EA and the comments we received on it, and the FONSI, go to http://www.regulations.gov/#!docketDetail;D=APHIS-2012-0052. The comments, and APHIS' responses to the comments, are presented in an appendix to the EA.

On June 5, 2013, we published in the Federal Register (78 FR 33798-33799, Docket No. APHIS-2013-0046) a notice ² in which we announced the availability, for public review and comment, of a supplement to the earlier EA. Our objectives in issuing the supplement to the EA were as follows:

² To view the June 2013 notice, the comment we received on it, and the supplement to the EA, go to http://www.regulations.gov/#!docketDetail;D=APHIS-2013-0046.

• To examine the potential environmental impacts of expanding the geographic range of the field trial zone in New York;

• To examine the potential environmental impacts of the field trial in relation to new information that has become available from public comments, research findings, and data gathering since the issuance of the 2012 FONSI;

• To clearly communicate to the public our analysis of the individual and cumulative impacts of the field trial since 2012; and

• To document our analysis of our field-trial activities in New Hampshire, New York, Ohio, Vermont, and West Virginia since the 2012 FONSI was issued to ensure that program activities remain within the impact parameters analyzed in the original EA.

We solicited comments on the supplement to the EA for 30 days ending July 5, 2013. We received one comment by that date. It was from a private citizen who had already submitted five comments on the original EA. The comment contained no new information.

In this document, we are advising the public of the availability of an updated FONSI regarding the potential environmental impact associated with our oral rabies vaccine field trial. The finding, which is based on the EA and the supplement to the EA, reflects our determination that the distribution of this experimental wildlife rabies vaccine will not have a significant impact on the quality of the human environment.

The supplement to the EA and the updated FONSI may be viewed on the Regulations.gov Web site (see footnote 2) or in our reading room, which is located in room 1141 of the USDA South Building, 14th Street and Independence Avenue SW., Washington, DC. Normal reading room hours are 8 a.m. to 4:30 p.m., Monday through Friday, except holidays. To be sure someone is there to help you, please call (202) 799-7039 before coming.

This notice and the supplemental environmental assessment are also posted on the APHIS Web site at http://www.aphis.usda.gov/regulations/ws/ws_nepa_environmental_documents.shtml. In addition, copies may be obtained from the person listed under FOR FURTHER INFORMATION CONTACT.

The supplement to the EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 12th day of August 2013.
Kevin Shea,
Administrator, Animal and Plant Health Inspection Service.

[FR Doc. 2013-19835 Filed 8-13-13; 8:45 am]

BILLING CODE 3410-34-P